DEPARTMENT OF VETERANS AFFAIRS

Veterans' Advisory Committee on Education (VACOE), Notice of Meeting

The Department of Veterans Affairs (VA) gives notice under the Federal Advisory Committee Act that the Veterans' Advisory Committee on Education will meet on May 8th and May 9th, 2019. On both days, the meeting will be held at 810 Vermont Ave. NW, Conference Room 630, Washington, DC 20204. The meeting sessions will begin and end as follows:

Date: | Time:
May 8, 2019 | 8:30 a.m. to 5:00 p.m.
May 9, 2019 | 8:30 a.m. to 5:00 p.m.

The meeting sessions are open to the public.

The purpose of the Committee is to advise the Secretary of Veterans Affairs on educational issues affecting Veterans. The Committee's area of focus includes access to quality programing and ensuring Veterans success.

On May 8, 2019, the morning agenda includes welcoming remarks, remarks from VA officials, and briefings regarding access to quality educational programing for Veterans. The Committee will use the afternoon to discuss the presentations from the morning and conduct an open discussion around those topics. On May 9, 2019, the morning agenda topic is focused on Ensuring Veterans Success. The Committee will be briefed on available data regarding GI Bill beneficiaries and the transition assistance program education track. The Committee will use the afternoon to discuss the presentations from the morning and conduct an open discussion around those topics. The afternoon will end with the Committee discussion recommendations and next steps based on the topics covered during the meeting.

Public comments will be received at 4:30 p.m. on April 21, 2019. Interested parties should contact Mr. Lucas Tickner, via email at Lucas.Tickner@va.gov, or by mail at 810 Vermont Avenue NW (22—Education Service), Washington, DC 20420. Individuals wishing to speak are invited to submit a 1-2 page summary of their comment for inclusion in the official meeting record. Because the meeting is being held in a government building, a photo I.D. must be presented at the Guard's Desk as a part of the clearance process. Due to an increase in security protocols, and to prevent delays in clearance processing, you should allow an additional 30 minutes before the meeting begins. Any member of the public seeking additional information should contact Mr. Tickner at the email address noted above.

Dated: April 2, 2019.
Jelessa M. Burney,
Federal Advisory Committee Management Officer.

[FR Doc. 2019-06676 Filed 4-4-19; 8:45 am]

BILLING CODE P